DEPARTMENT OF COMMERCE

National Oceanic and Atmospheric Administration

50 CFR Part 635

[I.D. 111804A]

Atlantic Highly Migratory Species; Bluefin Tuna Fisheries

AGENCY: National Marine Fisheries Service (NMFS), National Oceanic and Atmospheric Administration (NOAA), Commerce.

ACTION: Closure.

SUMMARY: NMFS has determined that the Atlantic bluefin tuna (BFT) General category and Angling category fisheries will close in all areas. This action is being taken to ensure that U.S. BFT harvest is consistent with recommendations of the International Commission for the Conservation of Atlantic Tunas (ICCAT), pursuant to the Atlantic Tunas Convention Act (ATCA), to meet domestic management objectives under the Magnuson-Stevens Fishery Conservation and Management Act (Magnuson-Stevens Act) and the Fishery Management Plan for Atlantic Tunas, Swordfish and Sharks (HMS FMP), and to prevent overharvest of the 2002 ICCAT recommended quota.

DATES: Effective 11:30 p.m., local time November 19, 2004, through 11:30 p.m., local time May 31, 2005.

FOR FURTHER INFORMATION CONTACT: Highly Migratory Species (HMS) Management Division at 978-281-9260.

SUPPLEMENTARY INFORMATION: Regulations implemented under the authority of the ATCA (16 U.S.C. 971 et seq.) and the Magnuson-Stevens Act (16 U.S.C. 1801 et seq.) governing the harvest of BFT by persons and vessels subject to U.S. jurisdiction are found at 50 CFR part 635. Section 635.27 subdivides the U.S. BFT quota recommended by ICCAT among the various domestic fishing categories, and together with General category effort controls are specified annually under 50 CFR 635.23(a) and 635.27(a). The proposed initial 2004 BFT Quota and General category effort controls will be published in the Federal Register in the near future.

General and Angling Category Closure

Based on anticipated quotas and concern over potential overharvest, the most recent General category and Angling category BFT landing estimates, previous fishing years landing estimates, availability of BFT on the fishing grounds, physical oceanographic conditions, and social and economic aspects of these two fishing categories, NMFS has determined that a closure in both the General and Angling quota categories is warranted at this time. Therefore, fishing for, retaining, possessing, or landing BFT by persons aboard vessels permitted in the Atlantic tunas General, HMS Angling, and HMS Charter/Headboat categories, must cease at 11:30 p.m. local time November 19, 2004, in all areas. The intent of these closures is to ensure that the overall U.S. BFT harvest is consistent with ICCAT recommendations.

When more precise quota and landings estimates are available these fisheries may be reopened to provide Angling, General and Charter/Headboat category fishermen fishing opportunities off south Atlantic states during the December/January time frame when BFT are expected to be available as in recent prior years. NMFS will announce any re-openings and/or quota transfers in separate Federal Register notices. Atlantic tunas General, HMS Angling, and HMS Charter/Headboat category permit holders may tag and release BFT of all sizes while the General and Angling quota categories are closed, subject to the requirements of the tag-and-release program at § 635.26.

NMFS is required, under § 635.28(a)(1), to file with the Office of the Federal Register for publication, notification of closure when a BFT quota is reached, or is projected to be reached. On and after the effective date and time of such closure notification, for the remainder of the fishing year, or for a specified period as indicated in the notification, fishing for, retaining, possessing, or landing BFT under that quota category is prohibited until the opening of the subsequent quota period, or until such date as specified in the notification.

Classification

The Assistant Administrator for Fisheries, NOAA (AA), finds that it is impracticable and contrary to the public interest to provide prior notice of, and an opportunity for public comment on, this action. Based on anticipated BFT quotas, recent landings reports, availability of BFT on the fishing grounds, and current fishing effort, these closures are necessary to ensure sufficient quota remains available to ensure overall 2004 fishing year landings are consistent with ICCAT recommendations and the HMS FMP. NMFS provides notification of closures by publishing the closure notice in the Federal Register, faxing notification to individuals on the HMS FAX Network and know fishery representatives, announcing the notice on the Atlantic Tunas Information Lines, and posting the closure notice on the internet at http://www.nmfspermits.com.

These fisheries are currently underway and delaying this action would be contrary to the public interest as it could result in excessive BFT landings that would preclude planned recreational and commercial fishing opportunities off south Atlantic states later in the season. To provide sufficient quota for this late season fishery and to remain within ICCAT recommended quotas, NMFS must close these fisheries before additional landings accumulate. Therefore, the AA finds good cause under 5 U.S.C. 553(b)(B) to waive prior notice and the opportunity for public comment. For all of the above reasons, there is good cause under 5 U.S.C. 553(d) to waive the delay in effectiveness of this action.

This action is being taken under 50 CFR 635.23(a)(4) and is exempt from review under Executive Order 12866.

Authority: 16 U.S.C. 971 et seq. and 1801 et seq.

Dated: November 18, 2004.
Alan D. Risenhoover,
Acting Director, Office of Sustainable Fisheries, National Marine Fisheries Service.

[FR Doc. 04-25959 Filed 11-18-04; 3:44 pm]

BILLING CODE 3510-22-S